DEPARTMENT OF HOUSING AND URBAN DEVELOPMENT

[Docket Nos. FR-5030-FA-10, FR-5030-FA-13, FR-5030-FA-17, and FR-5030-FA-29]

Announcement of Funding Award—FY 2006; Healthy Homes and Lead Hazard Control Grant Programs

AGENCY: Office of Healthy Homes and Lead Hazard Control, HUD.

ACTION: Announcement of funding awards.

SUMMARY: In accordance with section 102(a)(4)(C) of the Department of Housing and Urban Development Reform Act of 1989, this announcement notifies the public of funding decisions made by the Department in competitions for funding under the Office of Healthy Homes and Lead Hazard Control Grant Programs Notices of Funding Availability (NOFA). This announcement contains the name and address of the award recipients and the amounts to be awarded.

FOR FURTHER INFORMATION CONTACT: Jonnette Hawkins, Department of Housing and Urban Development, Office of Healthy Homes and Lead Hazard Control, 451 7th St., SW., Room 8236, Washington, DC 20410, telephone (202) 755-1785, extension 7593. Hearing- and speech-impaired persons may access the number above via TTY by calling the toll free Federal Information Relay Service at (800) 877-8339.

SUPPLEMENTARY INFORMATION: The 2006 awards were announced on September 21, 2006. These awards were the result of competitions announced in a Federal Register notice published on March 8, 2006 (71 FR 11814, 11834, 11847, and 11858). The purpose of the competitions was to award funding for grants and cooperative agreements for the Lead Hazard Control Grant Programs. Applications were scored and selected on the basis of selection criteria contained in these notices. A total of approximately $118,297,403 will be awarded.

In accordance with section 102(a)(4)(C) of the Department of Housing and Urban Development Reform Act of 1989 (103 Stat. 1987, 42 U.S.C. 3545), the Department is publishing the names, addresses, and amounts of these awards as follows:

A total of $81,653,722 will be awarded to 30 grantees for the Lead Based Paint and Hazard Control Program: Cochise County, Lead Hazard Control Program, P.O. Box 167, 100 Clawson Ave., Bisbee, AZ 85603, $1,971,253; State of California, Community Services & Development Programs, 700 North 10th St., Room 258, Sacramento, CA 95814, $3,000,000; San Bernardino County, Public Health, Child & Family Health Services, 120 Carousel Mall, San Bernardino, CA 92415-0475, $3,000,000; State of Connecticut, 25 Sigourney St., Hartford, CT 06106, $3,000,000; City of Hartford, 131 Coventry St., Hartford, CT 06112, $3,000,000; St. Clair County, Intergovernmental Grants, 19 Public Square, Suite 200, Belleville, IL 62220, $2,116,478; Madison County, Community Development, 130 Hillsboro, Edwardsville, IL 62025, $3,000,000; County of Peoria, Peoria City County Health Dept., 2116 N. Sheridan Road, Peoria, IL 61604-3457, $3,000,000; City of Fort Wayne, Room 800, City County Building, One Main St., Fort Wayne, IN 46802, $1,897,415; City of South Bend, 501 Alonzo Watson Drive, South Bend, IN 46601, $3,000,000; State of Kansas, 1000 SW. Jackson, Suite 330, Topeka, KS 66612, $2,987,083; City of Boston, Neighborhood Development Home Owner Services, 26 Court St., 9th Floor, Boston, MA 02108, $3,000,000; City of Somerville, Strategic Planning & Community Development, 93 Highland Ave., City Hall, Somerville, MA 02143, $1,911,849; State of Michigan, Department of Community Health, Environmental and Occupational Epidemiology, P.O. Box 30195, Lansing, MI 48909, $3,000,000; County of St. Louis, Community Development/Planning, 121 South Meramec, Suite 444, Clayton, MO 63105, $2,715,390; City of St. Louis, 1015 Locust St., Suite 1200, St. Louis, MO 63101, $3,000,000; City of Charlotte, Neighborhood Development, Housing Services, 600 E. Trade St, Charlotte, NC 28202, $2,999,944; State of North Carolina, Lead Poisoning Prevention Program, 1632 Mail Service Center, Raleigh, NC 27699, $3,000,000; County of Orange, Community Development, 255 Main St., Goshen, NY 10924, $2,821,149; Monroe County, Public & Environmental Health, 111 Westfall Rd, P.O. Box 92832, Rochester, NY 14692, $2,998,283; Onondaga County, Community Development, 1100 Civic Center, Syracuse, NY 13202, $3,000,000; County of Westchester, Department of Planning, 148 Martine Ave., Room 114, White Plains, NY 10601, $3,000,000; City of Portland, Housing & Community Development, 421 SW. Sixth Ave., Suite 1100, Portland, OR 97204, $3,000,000; Commonwealth of Pennsylvania, Department of Health, Seventh & Forster St., 7th Floor East Wing, Harrisburg, PA 17120, $3,000,000; County of Lawrence, 430 Court St., New Castle, PA 16101, $3,000,000; State of Rhode Island, Development Department, Lead, 44 Washington St., Providence, RI 02903, $3,000,000; City of Warwick, Planning Department, Office of Housing & Community, 3275 Post Road, City Hall Annex, Warwick, RI 02886, $2,125,992; Shelby County, Department of Housing, Planning and Development, 1075 Mullins Station Road, Memphis, TN 38134, $2,998,886; Salt Lake County, Human Services/Community Resources & Development, 2001 State St., S-2100, Salt Lake City, UT 84190, $2,010,000; County of Rock, Planning & Development, 51 South Main St., Janesville, WI 53545, $1,100,000.

A total of $20,535,349 will be awarded to 7 grantees for the Lead Hazard Reduction Demonstration Grant Program: State of Connecticut, 25 Sigourney St., Hartford, CT 06106, $4,000,000; City of Hartford, 131 Coventry St., Hartford, CT 06112, $3,416,713; City of Boston, Neighborhood Development Homeowner Services, 26 Court St., 9th Floor, Boston, MA 02108, $1,545,966; City of Somerville, SPCD Housing, City Hall, 93 Highland Ave., Somerville, MA 02143, $1,572,670; City of St. Louis, 1015 Locust St., Suite 1200, St. Louis, MO 63101, $4,000,000; County of Westchester, Department of Planning, Housing, 148 Martine Ave., Room 414, White Plains, NY 10601, $2,000,000; City of Cleveland, 1925 St. Clair Ave., Cleveland, OH 44114, $4,000,000.

A total of $5,999,823 will be awarded to 3 grantees for the Operation Lead Elimination Action Program (LEAP): Environmental Education Associates, Inc., 346 Austin St., Buffalo, NY 14201, $1,999,997; Mahoning Valley Real Estate Investors Association, 2901 Market St., Suite 200, Youngstown, OH 44507, $2,000,000; Middle Tennessee State University, Engineering, Technical & Industrial Studies, Occupational Health and Safety, 1500 Greenland Drive, Campus P.O. Box 19, Murfreesboro, TN 37132, $1,999,826.

A total of $2,778,130 will be awarded to 7 grantees for the Lead Technical Studies Program: University of Illinois Board of Trustees, 1901 S. First St., Suite A, Champaign, IL 61820, $369,114; University of Illinois at Chicago, School of Public Health, MB 502, M/C 551, 809 S. Marshfield Ave., Chicago, IL 60612-7205, $848,500; Phoenix Science & Technology, Inc., 27 Industrial Ave., Chelmsford, MA 01824, $375,207; St. Louis University, School of Public Health, Community Health, 211 North Grand Blvd., St. Louis, MO 63103, $495,732; Research Triangle Institute, 3040 Cornwallis Road, Research Triangle Park, NC 27709, $190,000; University of Cincinnati, Department of Environmental Health, Environmental and Occupational Hygiene, 47 Corry Blvd., Edwards One, Suite 7148, P.O. Box 210222, Cincinnati, OH 45221, $420,600; University of Cincinnati College of Medicine, Environmental Health, Epidemiology, 47 Corry Blvd., Edwards One, Suite 7148, P.O. Box 210222, Cincinnati, OH 45221, $78,977.

A total of $3,760,259 will be awarded to 4 grantees for the Healthy Homes Demonstration Grant Program: Alameda County Lead Poisoning Prevention Program, Community Development Agency, Lead Poisoning Prevention, 2000 Embarcadero, Suite 300, Oakland, CA 94606, $1,000,000; City of Minneapolis Healthy Homes & Lead Hazard Control, Regulatory Services, Environmental Management & Safety, 250 S 4th St., Room 414, Minneapolis, MN 55415, $1,000,000; Cuyahoga County Board of Health Department, Community Health, 5550 Venture Drive, Parma, OH 44130, $1,000,000; Cook County Department of Public Health, Environmental Health Services, Prevention Services Unit, 1010 Lake St., Suite 300, Oak Park, IL 60301, $760,259.

A total of $2,000,000 will be awarded to 8 grantees for the Lead Outreach Grants Program: Saint Francis Hospital & Medical Center, Pediatrics, 114 Woodland St., Hartford, CT, 06105, $298,058; Area Health Education Center of Southern Nevada, 1094 E. Sahara Ave., Las Vegas, NV 89104, $199,451; West Harlem Environmental Action, Inc., 271 West 125th St., Suite 206, New York, NY 10027, $282,960; Research Foundation of SUNY on behalf of SUNY Potsdam, P.O. Box 9, Potsdam, NY 12201-0009, $111,285; National Nursing Centers Consortium, U.S. HUD Lead Outreach Grant Program, 260 South Broad St., 18th Floor, Philadelphia, PA 19102, $200,000; Le Bonheur Community Outreach, 2400 Poplar Ave., Suite 318, Memphis, TN 38112, $250,332; Indiana Black Expo, Inc., Youth & Family Programs, 3145 N. Meridian St., Indianapolis, IN 46208, $357,914; Board of Regents, University of Nebraska-Lincoln, SE Research & Extension Center, IANR Cooperative Extension, 312 N. 14th St., Alexander Bldg., West, Lincoln, NE 68588, $300,000.

A total of $1,570,120 will be awarded to 4 grantees for the Healthy Homes Technical Studies Grants Program: National Center for Healthy Housing, 10227 Wincopin Circle, Suite 0200, Columbia, MD 21044, $150,120; University of Minnesota, Environmental Health Sciences, 200 Oak St., SE, Suite 450, McNamara Alumni Center, Minneapolis, MN 55455, $490,000; St. Louis University, School of Public Health, Community Health, 211 North Grand Blvd., St. Louis, MO 63103, $530,000; University of Cincinnati, Environmental Health, Epidemiology, 47 Corry Blvd., Edwards One, Suite 7148, Cincinnati, OH 45221, $400,000.

Dated: October 6, 2006.
Jon L. Gant,
Director, Office of Healthy Homes, and Lead Hazard Control.

[FR Doc. E6-17311 Filed 10-17-06; 8:45 am]

BILLING CODE 4210-67-P